DEPARTMENT OF ENERGY

Federal Energy Regulatory Commission

[Docket Nos. ER04-433-000 and ER04-433-001, ER04-432-000 and ER04-432-001]

New England Power Pool Bangor Hydro-Electric Company, et al.; Notice of Technical Conference

January 7, 2005.

Take notice that on January 14, 2005, at 1 p.m., at the offices of the Federal Energy Regulatory Commission, 888 First Street, NE., Washington, DC 20426, a technical conference will be held, as requested in a January 5, 2005, motion filed by the New England Transmission Owners and ISO New England Inc. (ISO New England).

The purpose of the technical conference will be to address compliance issues (the form and manner of compliance) relating to the Commission's directive in these proceedings that the New England Transmission Owners either: (i) Amend their Local Tariffs to include the pro forma Standard Large Interconnection Procedures (LGIP) and the Standard Large Generator Interconnection Agreement (LGIA); or (ii) transfer to ISO New England, or its successor RTO, control over the significant aspects of the Local Tariff interconnection process.¹ Specific issues to be addressed at the technical conference include:

¹ See New England Power Pool and Bangor Hydro Electric Company, 109 FERC ¶ 61,155 (2004) (November 8 Order), reh'g pending.

(1) The nature and timing of a compliance filing proposing to include the pro forma LGIP and LGIA in the Local Tariffs, including what burden must be met to demonstrate that any proposed variation meets the Commission's consistent with or superior to test;

(2) The nature and timing of a compliance filing proposing to transfer to ISO New England, or its successor RTO, control over the significant aspects of the Local Tariff interconnection process;

(3) The extent to which any generator seeking to interconnect to a non-Pool Transmission Facility under a Local Tariff may be affected by the form and manner in which the New England Transmission Owners comply with the November 8 Order; and

(4) The extent to which any other market participant may be affected by the form and manner in which the New England Transmission Owners comply with the November 8 Order.

Parties seeking to participate in the technical conference should file a statement of position with the Commission on or before January 12, 2005, including therein any recommendation that party expects to make at the technical conference regarding the above-noted issues. An electronic version of that filing must be e-mailed to Morris Margolis at morris.margolis@ferc.gov and Kent Carter at kent.carter@ferc.gov.

Magalie R. Salas,
Secretary.

[FR Doc. E5-138 Filed 1-13-05; 8:45 am]

BILLING CODE 6717-01-P